DEPARTMENT OF AGRICULTURE

Forest Service

Notice of Availability; County Line Vegetation Management Project Draft, Environmental Impact Statement

AGENCY: Forest Service, Rio Grande National Forest.

ACTION: Notice of availability and public hearings.

SUMMARY: The United States Department of Agriculture (USDA) Forest Service (USFS), Rio Grande National forest (RGNF) announces the availability of the County Line Vegetation Management Project Draft Environmental Impact Statement (EIS). The Draft EIS was prepared in accordance with the Council on Environmental Quality's National Environmental Policy Act (NEPA) Implementing Regulations (40 CFR Parts 1500-1508). The EIS analyzes the environmental impacts of a proposal to manage a spruce beetle infestation by performing up to 715 acres of sanitation/salvage harvest and up to 841 acres of preventative thinning. Timber harvest activities could produce from 22 to 29 MMBF of spruce sawtimber. The action alternatives propose to realign 0.3 miles of system road, to reconstruct from 10.7 to 15.6 miles of system roads to construct 2.3 miles of temporary roads, and to close up to 2.3 miles of open system road and convert it to a non-motorized trail. Three alternatives are considered: (A) The No Action Alternative; (B) the Proposed Action (Sanitation/salvage and preventative thinning); and (C) Sanitation/Salvage.

DATES: USFS invites Federal agencies, state and local governments, Native American tribes, and the public to comment on the Draft EIS. The comment period extends from the publication of this Notice of Availability until February 07, 2005. Written comments must be submitted by February 07, 2005. Comments submitted after that date will be considered to the extent practicable. The USFS will consider the comments in the preparation of the Final EIS. Public meetings to present information and receive written comments on the Draft EIS are not planned at this time.

The following Web site may be accessed for additional information: http://www.fs.fed.us/r2/riogrande/.

ADDRESSES: Send written comments on the Draft EIS or requests for copies of the Draft EIS to Mr. John Murphy, Interdisciplinary Team Leader, USDA-USFS, Rio Grande National Forest, Public Lands Center, 1803 West Highway 160, Monte Vista, CO 81144. Electronic mail (e-mail) may be sent to comments-rocky-mountain-rio-grande@fs.fed.us and faxes may be sent to (719) 852-6250.

A copy of the Draft EIS will be available on the Internet at: http://www.fs.fed.us/r2/riogrande/.

FOR FURTHER INFORMATION CONTACT: Contact Mr. John Murphy, Interdisciplinary Team Leader, USDA-USFS, Public Lands Center (719) 852-6221. Refer to SUPPLEMENTARY INFORMATION regarding public disclosure of submitted comment information.

SUPPLEMENTARY INFORMATION: The Rio Grande National Forest is comprised of 1.86 million acres located in southwestern Colorado. Denver, Colorado, is approximately 300 miles to the north of the RGNF, and Albuquerque, New Mexico, is approximately 270 miles to the south. The Continental Divide runs for 236 miles along most of the western border of the RGNF. The County Line analysis Area is located about 15 miles north-east of Chama, New Mexico on lands administered by the RGNF.

The spruce beetle (Dendroctonus rufipennis) is the most significant cause of mortality of mature Engelmann spruce (Picea engelmannii) stands. Large-scale spruce beetle infestations in excess of 100,000 acres have occurred over the last 25 years in North America from Alaska to Arizona.

The scope of spruce beetle outbreaks can be significant, at times killing up to 80% or more of the mature spruce trees within a watershed.

Many areas of the Rio Grande National Forest are currently experiencing severe infestations of spruce beetle, including the County Line Analysis Area. Endemic spruce beetle populations usually live in windthrown trees but as populations increase they may enter susceptible, large diameter trees. Spruce stands are highly susceptible to spruce beetle when they are on highly productive sites, have an average diameter at breast height greater than 16 inches, have a basal area greater than 150 square feet per acre, and are stands that are predominantly spruce.

The Count Line area contains these types of stands which are most susceptible to spruce beetle infestation. Significant spruce beetle activity was first observed in the County Line Analysis Area during the winter of 2003. Monitoring since then has shown spruce beetle infestations spreading through many of the stands in the analysis area at levels, which are resulting in significant spruce mortality. While spruce beetle epidemics cannot be stopped, stand management can reduce the adverse effects of beetle infestations and the resulting tree mortality.

The responsible Official is the forest Supervisor, Rio Grande National Forest, 1803 West Highway 160, Monte Vista, CO 81132. The NEPA decision to be made by the USFS official is whether to perform sanitation/salvage treatments to heavily impacted stands, whether to perform preventive thinning to susceptible stands, and whether to close 2.1 miles of open system road and convert it to a non-motorized trail.

No Action: The No Action Alternative is the current USFS management situation. Under this alternative, USFS would not treat stands currently infested with spruce beetle, would not perform preventative thing in susceptible stands, and would not close 2.1 miles of open system road and convert it to a non-motorized trail.

Proposed Action: This alternative emphasizes forest health restoration activities by managing spruce stands to create conditions less favorable to the spread of spruce beetle, reducing the spruce beetle population in the analysis area. This alternative proposes to thin 715 acres of spruce-fir and to conduct sanitation/salvage harvest on 841 acres. Trap trees would be utilized in the preventative thinning areas. Following timber harvest activities 693 acres would be planted to spruce. This alternative requires 5.1 miles of pre-haul maintenance, 1.8 miles of dust abatement, 15.6 miles of road reconstruction, 0.3 miles of road re-alignment, and 2.1 miles of road closure and conversion to a non-motorized trail. From 24 to 29 MMBF of spruce sawtimber would be harvested under this alternative.

Alternative C: This alternative addresses forest health restoration activities by reducing the spruce beetle population in the analysis area. This alternative proposes to conduct sanitation/salvage harvest on 841 acres. Following timber harvest activities 693 acres would be planted to spruce. This alternative requires 5.1 miles of pre-haul maintenance, 1.8 miles of dust abatement, 10.7 miles of road reconstruction and 0.3 miles of road re-alignment. From 22 to 25 MMBF of spruce sawtimber would be harvested under this alternative.

Comments Requested

This Notice of Availabilitry initiates the public comment process that guides the development of the Final EIS. The USFS invites written comments and suggestions on the proposed action and alternatives, including any issues to consider, as well as any concerns relevant to the analysis. In order to be most useful, comments should be received by February 07, 2005. Comments received in response to this notice, including names and addresses of those who comment, will be considered part of the public record on this Proposed Action and will be available for public inspection. If you wish to withhold your name or street address from public review or from disclosure under the Freedom of Information Act (FOIA), you must state this prominently at the beginning of your written comment. Such requests will be honored to the extent allowed by law, but persons requesting such confidentiality should be aware that under the FOIA, confidentiality may be granted in only very limited circumstances, such as to protect trade secrets. The USFS will inform the requester of the agency's decision regarding the request for confidentiality, and where the request is denied, the agency will return the submission and notify the requester that the comments may be resubmitted with or without name and address within a specified number of days. All submissions from organizations and business, and from individuals identifying themselves as representatives or officials of organizations or businesses, will be available for public inspection in their entirety. Comments submitted anonymously will be accepted and considered; however, those who submit anonymous comments will not have standing to appeal the subsequent decision under 36 CFR Part 215. Upon completion of the Final EIS the document will be provided to the public for review and comment. Comments and USFS responses will be addressed and contained in the Final EIS.

Dated: December 23, 2004.
Cindy Rivera,
Acting Forest Supervisor.

[FR Doc. 04-28691 Filed 12-30-04; 8:45 am]

BILLING CODE 3410-11-M